DEPARTMENT OF ENERGY

Federal Energy Regulatory Commission

[Docket Nos. CP06-335-001]

Maritimes & Northeast Pipeline, L.L.C.; Notice of Amendment to Application for Certificate of Public Convenience and Necessity

September 19, 2006.

Take notice that on September 11, 2006, Maritimes & Northeast Pipeline, L.L.C. (Maritimes), 890 Winter Street, Suite 300, Waltham, Massachusetts 02451, filed in Docket No. CP06-335-001, an amendment to its application filed on May 16, 2006 pursuant to section 7 of the Natural Gas Act (NGA) for authorization for its Phase IV Project. In the instant amended application, Maritimes states that the only change to the project originally proposed in the May 16, 2006 application is to remove the facilities proposed to accommodate 150,000 Dth/day of capacity for Portland Natural Gas Transmission System (PNGTS) on the mainline facilities jointly owned by Maritimes and PNGTS that extend from Westbrook, Maine to Dracut, Massachusetts, all as more fully set forth in the application which is on file with the Commission and open to public inspection. More specifically, Maritimes states that the only change to the originally proposed facilities is to install a smaller compressor unit at the proposed Eliot Compressor Station in York County, Maine. This filing may be also viewed on the Web at http://www.ferc.gov using the “eLibrary” link. Enter the docket number excluding the last three digits in the docket number field to access the document. For assistance, call (866) 208-3676 or TTY, (202) 502-8659.

Maritimes requests a shortened notice procedure for this filing. Maritimes states that the shortened notice procedure is appropriate because the proposed modification to the original project is minor and the impact associated with the modification on existing customers and affected landowners and communities is minimal.

Any questions concerning this application may be directed to Steven E. Tillman, General Manager, Regulatory Affairs, M&N Management Company, 5400 Westheimer Court, P.O. Box 1642, Houston, Texas 77251-1642.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

Comment Date: 5 p.m. Eastern Time on September 29, 2006.

Magalie R. Salas,
Secretary.

[FR Doc. E6-15680 Filed 9-25-06; 8:45 am]

BILLING CODE 6717-01-P